DEPARTMENT OF ENERGY

Federal Energy Regulatory Commission

[Project No. 2696-033]

Town of Stuyvesant, New York; Albany Engineering Corporation; Notice of Teleconference To Discuss Article 301 Extension of Time Request and Notice Soliciting Comments, Protests, or Motions To Intervene on Article 301 Extension of Time Request

Take notice that the following hydroelectric proceeding has been initiated by the Commission:

a. Type of Proceeding: Notice of Teleconference and Notice Soliciting Comments, Protests, or Motions to Intervene on Article 301 Extension of Time Request.

b. Project No.: 2696-033.

c. Article 301 extension of time request filed: April 10, 2015. Also, see supplemental filing on: April 28, 2015.

d. Licensees: Town of Stuyvesant, New York, and Albany Engineering Corporation.

e. Name and Location of Project: The Stuyvesant Falls Hydroelectric Project is located on Kinderhook Creek in Columbia County, New York.

f. Filed Pursuant to: Article 301 of the license.

g. Licensees Contact Information: Mr. James A. Besha, President, Albany Engineering Corporation, 5 Washington Square, Albany, NY (518) 456-7712, ext. 402.

h. FERC Contact: Jennifer Polardino, (202) 502-6437, Jennifer.Polardino@ferc.gov.

i. Deadline for filing comments, protests, or motions to intervene is 30 days from the issuance of this notice by the Commission.

The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. you must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2696-033.

j. Date and Time of Teleconference: Wednesday, June 17, 2015, beginning at 9:00 a.m. (EDT) and concluding at 10:30 a.m. (EDT).

k. A summary of the meeting will be prepared for the project record.

l. All local, state, and federal agencies, Indian tribes, and other interested parties are invited to participate in the teleconference. Please call Jennifer Polardino at (202) 502-6437 or send an email to Jennifer.Polardino@ferc.gov by June 11, 2015, to register your attendance for the teleconference.

m. FERC conferences are accessible under section 508 of the Rehabilitation Act of 1973. For accessibility accommodations please send an email to accessibility@ferc.gov or call toll free (866) 208-3372 (voice) or (202) 208-8659 (TTY), or send a FAX to (202) 208-2106 with the required accommodations.

n. Description of Proceeding: On April 10, 2015, the Town of Stuyvesant, New York and Albany Engineering Corporation, licensees for the Stuyvesant Falls Hydroelectric Project, filed an extension of time request to comply with license articles 301, 401(a) and 406, 401(a) and 407, 410, 411, 412, 413, and 414 pursuant to an Order Issuing New License (143 FERC ¶ 62,016). On April 15, 2015, the U.S. Department of Interior (Interior) filed a notice of intervention and protest on behalf of its component bureau, the U.S. Fish and Wildlife Service of the licensees' April 10, 2015 extension of time requests. On April 28, 2015, the licensees filed a revised extension of time request to comply with several license articles, including Article 301 of the license. On May 11, 2015, Interior filed a modified protest in response to the licensees' revised extension of time request. In its filing, Interior does not object to the request for an extension of time to comply with license articles 401(a) and 406, 401(a) and 407, 410, 411, 412, and 413. Therefore, Commission staff will address these extension of time requests in a separate proceeding. However, Interior continues to object to the extension of time requested to commence and complete construction of fish protection and passage facilities pursuant to Article 301. For that reason, Commission staff are scheduling a teleconference to discuss the extension of time request for Article 301 on Wednesday, June 17, 2015 beginning at 9:00 a.m. (EDT) and concluding at 10:30 a.m. (EDT). All interested entities are invited to join the teleconference as discussed above.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .212, .214. In determining the appropriate action to take, the Commission will consider all protests or other comments filed, but only those who file a motion to intervene in accordance with the Commission's Rules may become a party to the proceeding. Any comments, protests, or motions to intervene must be received on or before the specified comment date for the particular proceeding.

q. Filing and Service of Responsive Documents—Any filing must (1) bear in all capital letters the title “COMMENTS”, “PROTEST,” or “MOTIONS TO INTERVENE”, as applicable; (2) set forth in the heading the project number of the proceeding to which the filing responds; (3) furnish the name, address, and telephone number of the person commenting, protesting, or intervening; and (4) otherwise comply with the requirements of 18 CFR 385.2001 through 385.2005. All comments or protests must set forth their evidentiary basis. All comments, protests, or motions to intervene should relate to project works which are the subject of the termination of exemption. A copy of any protest or motion to intervene must be served on each representative of the specified in item “g” above. A copy of all other filings in reference to this notice must be accompanied by proof of service on all persons listed in the service list prepared by the Commission in this proceeding in accordance with 18 CFR 4.34(b) and 385.2010.

r. Agency Comments—Federal, state, and local agencies are invited to file comments on the described proceeding. If any agency does not file comments within the time specified for filing comments, it will be presumed to have no comments.

Dated: May 21, 2015.
Kimberly D. Bose,
Secretary.

[FR Doc. 2015-12861 Filed 5-27-15; 8:45 am]

BILLING CODE 6717-01-P